DEPARTMENT OF COMMERCE

National Oceanic and Atmospheric Administration

Evaluations of National Estuarine Research Reserves and Coastal Management Programs

AGENCY: Office for Coastal Management (OCM), National Ocean Service (NOS), National Oceanic and Atmospheric Administration (NOAA), Department of Commerce (DOC).

ACTION: Notice.

SUMMARY: The National Oceanic and Atmospheric Administration (NOAA), Office for Coastal Management will hold public meetings to solicit comments for the performance evaluations of the Grand Bay and Jacques Cousteau National Estuarine Research Reserves and Alabama Coastal Area Management Program (Alabama Coastal Management Program).

DATES: Jacques Cousteau National Estuarine Research Reserve Evaluation: The public meeting will be held on Tuesday, August 16, 2016, and written comments must be received on or before Friday, August 19, 2016.

Grand Bay National Estuarine Research Reserve Evaluation: The public meeting will be held on Wednesday, August 24, 2016, and written comments must be received on or before Friday, September 2, 2016.

Alabama Coastal Management Program Evaluation: The public meeting will be held on Wednesday, August 10, 2016 and written comments must be received on or before Friday, August 19, 2016.

For specific dates, times, and locations of the public meetings, see SUPPLEMENTARY INFORMATION.

ADDRESSES: You may submit comments on the reserves and coastal program NOAA intends to evaluate by any of the following methods:

Public Meeting and Oral Comments: A public meeting will be held in Tuckerton, New Jersey for the Jacques Cousteau Reserve, Moss Point Mississippi for the Grand Bay Reserve, and Spanish Fort, Alabama for the Alabama Coastal Management Program. For specific locations, see SUPPLEMENTARY INFORMATION.

Written Comments: Please direct written comments to Carrie Hall, Evaluator, Policy, Planning and Communications, Office for Coastal Management, NOS/NOAA, 1305 East-West Highway, 11th Floor, N/OCM1, Silver Spring, Maryland 20910, or email comments Carrie.Hall@noaa.gov.

FOR FURTHER INFORMATION CONTACT: Carrie Hall, Evaluator, Policy, Planning and Communications, Office for Coastal Management, NOS/NOAA, 1305 East-West Highway, 11th Floor, N/OCM1, Silver Spring, Maryland 20910, or Carrie.Hall@noaa.gov. Copies of the program's most recent evaluation and performance report, as well as the evaluation notification letter to the state may be obtained upon request by contacting the person identified under FOR FURTHER INFORMATION CONTACT. Copies of the most recent final evaluation findings may also be downloaded or viewed on the Internet at http://coast.noaa.gov/czm/evaluations/evaluation_findings/index.html.

SUPPLEMENTARY INFORMATION: Sections 312 and 315 of the Coastal Zone Management Act (CZMA) require NOAA to conduct periodic evaluations of federally approved coastal management programs and national estuarine research reserves. The process includes a public meeting, consideration of written public comments and consultations with interested Federal, state, and local agencies and members of the public. For the evaluation of National Estuarine Research Reserves, NOAA will consider the extent to which the state has met the national objectives, adhered to its management plan approved by the Secretary of Commerce, and adhered to the terms of financial assistance under the Coastal Zone Management Act. The evaluation of Coastal Management Programs require findings concerning the extent to which a state or territory has met the national objectives, adhered to its Coastal Management Program document approved by the Secretary of Commerce, and adhered to the terms of financial assistance awards funded under the Coastal Zone Management Act. When the evaluation is completed, NOAA's Office for Coastal Management will place a notice in the Federal Register announcing the availability of the Final Evaluation Findings.

Specific information on the periodic evaluation of reserves and coastal management programs that are the subject of this notice are detailed below as follows:

Grand Bay National Estuarine Research Reserve Evaluation

You may participate or submit oral comments at the public meeting scheduled as follows:

Date: August 24, 2016.

Time: 4:30 p.m., local time.

Location: 6005 Bayou Heron Road, Room 100, Moss Point, Mississippi 36592.

Written comments must be received on or before September 2, 2016.

Jacques Cousteau National Estuarine Research Reserve Evaluation

You may participate or submit oral comments at the public meeting scheduled as follows:

Date: August 16, 2016.

Time: 6:30 p.m., local time.

Location: Cousteau Center, 130 Great Bay Boulevard, Tuckerton, New Jersey, 08087.

Written comments must be received on or before August 19, 2016.

Alabama Coastal Management Program Evaluation

You may participate or submit oral comments at the public meeting scheduled as follows:

Date: August 10, 2016.

Time: 5:30 p.m., local time.

Location: Five Rivers Tensaw Theater, 30945 Five Rivers Boulevard, Spanish Fort, Alabama 36527.

Written comments must be received on or before August 19, 2016.

(Federal Domestic Assistance Catalog 11.419; Coastal Zone Management Program Administration)

Dated: June 2, 2015.
John King,
Deputy Director, Office for Coastal Management, National Ocean Service, National Oceanic and Atmospheric Administration.

[FR Doc. 2016-14607 Filed 6-21-16; 8:45 am]

BILLING CODE 3510-08-P